DEPARTMENT OF JUSTICE

United States and Air Liquide America Corp.; Notice of Lodging of Consent Decree Under the Clean Air Act

Notice is hereby given that on June 21, 2001 a proposed Consent Decree (“Decree”) in United States and Air Liquide America Corporation, Civil Action No. 01-S-0113 was lodged with the United States District Court for the Southern District of Texas. The United States filed this action pursuant to section 113(b) of the Clean Air Act (the “Act”), 42 U.S.C. 7413(b), for noncompliance with the industrial refrigerant repair, testing, record-keeping, and reporting regulations at 40 CFR part 82, subpart F, §§ 82.152-82.166 (the “Subpart F Regulations”), promulgated pursuant to Subchapter VI of the Act, 42 U.S.C. 7671-7671q. at 22 industrial process refrigeration systems owned and operated by Air Liquide America Corporation in 18 states.

Under the terms of the Decree Air Liquide America Corporation will pay the United States a civil penalty in the amount of $4.5 million, and perform a supplemental environmental project in Calcasieu Parish, Louisiana. Air Liquide America Corporation will also replace, convert, or take out of service fifty of its industrial refrigeration systems now using regulated “class II” refrigerants with non-ozone depleting refrigerants.

The Department of Justice will receive for a period of thirty (30) days from the date of this publication comments relating to the Decree. Comments should be addressed to the Assistant Attorney General, Environment and Natural Resources Division, PO Box 7611, U.S. Department of Justice, Washington, DC 20044-7611, and should refer to United States v. Air Liquide America Corporation, D.J. Ref. 90-5-2-1-07132. The Decree may be examined at the offices of EPA Region VIII, 999 18th Street, Suite 500 South Tower, Denver, Colorado. A copy of the Decree may also be obtained by mail from the Consent Decree Library, PO Box 7611, U.S. Department of Justice, Washington, DC 20044-7611. In requesting a copy of the Decree, please enclose a check payable to the Consent Decree Library for $17.00 for a complete copy of the decree (25 cents per page reproduction cost).

Robert Brook,
Assistant Section Chief, Environmental Enforcement Section, Environment and Natural Resources Division.

[FR Doc. 01-16822 Filed 7-3-01; 8:45 am]

BILLING CODE 4410-15-M